DEPARTMENT OF HOMELAND SECURITY

Coast Guard

33 CFR Part 165

[Docket No. USCG-2023-0437]

Safety Zones; Fireworks Displays in the Fifth Coast Guard District—Brick Township, NJ

AGENCY: Coast Guard, DHS.

ACTION: Notification of enforcement of regulation.

SUMMARY: The Coast Guard will enforce the Metedeconk River, Brick Township, NJ Safety Zone for fireworks displays on four separate periods. The safety zone will be enforced on July 6, 2023, July 13, 2023, July 20, 2023, and July 27, 2023, or on a rain date of August 10, 2023, to provide for the safety of life on navigable waterways during each of the four separate land-based fireworks displays. Our regulation for marine events within the Fifth Coast Guard District identifies the boundaries of the regulated area for this event near the shoreline at Brick Township, NJ. During the enforcement period, no person or vessel may enter, remain in, or transit through the regulated area, and anyone in the vicinity must comply with directions from the Patrol Commander or any Official Patrol displaying a Coast Guard ensign.

DATES: The portion of the regulation 33 CFR 165.506 for Brick Township, NJ, will be enforced for the location identified in entry 5 of table 1 to paragraph (h)(1), from 9 through 9:45 p.m. on July 6, 2023, July 13, 2023, July 20, 2023, and July 27, 2023, or on a rain date of August 10, 2023.

FOR FURTHER INFORMATION CONTACT: If you have questions about this notice of enforcement, you may call or email Petty Officer Dylan Caikowski, U.S. Coast Guard, Sector Delaware Bay, Waterways Management Division, telephone 215-271-4814, email SecDelBayWWM@uscg.mil.

SUPPLEMENTARY INFORMATION:

The Coast Guard will enforce the safety zone in table 1 to paragraph (h)(1) to 33 CFR 165.506, entry No. 5 for four periods, for four separate land-based fireworks displays. The enforcement periods will be from 9 through 9:45 p.m. on July 6, 2023, July 13, 2023, July 20, 2023, and July 27, 2023, or on a rain date of August 10, 2023. This action is necessary to ensure the safety of life on the navigable waters of the United States immediately prior to, during, and immediately after fireworks displays. Our regulation for safety zones of fireworks displays within the Fifth Coast Guard District, table 1 to paragraph (h)(1) to 33 CFR 165.506, entry 5 specifies the location of the regulated area as all waters of the Metedeconk River within a 300-yard radius of the fireworks launch platform in approximate position latitude 40°03′23″ N, longitude 074°06′39″ W, near the shoreline at Brick Township, NJ. During the enforcement period, as reflected in section 165.506(d), vessels may not enter, remain in, or transit through the safety zone unless authorized by the Captain of the Port or designated Coast Guard patrol personnel on-scene.

In addition to this notice of enforcement in the Federal Register, the Coast Guard will provide notification of this enforcement period via Local Notice to Mariners and Broadcast Notice to Mariners.

Dated: June 21, 2023.
Kate F. Higgins-Bloom,
Captain, U.S. Coast Guard, Captain of the Port, Sector Delaware Bay.

[FR Doc. 2023-13590 Filed 6-26-23; 8:45 am]

BILLING CODE 9110-04-P